DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. chapter 35).

Agency: United States Patent and Trademark Office (USPTO).

Title: Rules for Patent Maintenance Fees.

Form Number(s): PTO/SB/45/47/65/66.

Agency Approval Number: 0651-0016.

Type of Request: Revision of a currently approved collection.

Burden: 30,495 hours annually.

Number of Respondents: 348,110 responses per year.

Avg. Hours Per Response: The USPTO estimates that it will take the public approximately 5 minutes (0.08 hours) to 8 hours to gather the necessary information, prepare the form or petition, and submit the completed request. The USPTO estimates that it will take the public approximately 20 seconds (0.006 hours) to submit the Electronic Maintenance Fee Form.

Needs and Uses: In order to keep utility patents in force, patentees must pay maintenance fees at 3½, 7½, and 11½ years after the date of grant. The public uses this collection to submit a patent maintenance fee payment, to file a petition to accept an unavoidably or unintentionally delayed maintenance fee payment, to file a petition to request acceptance of a maintenance fee payment that was submitted prior to patent expiration but refused by the USPTO, and to designate or change an address to be used for fee-related correspondence with the USPTO. The USPTO uses the information collected from the public to process and record maintenance fee payments, to consider petitions regarding delayed maintenance fee payments or payments that were refused by the USPTO, and to send fee-related correspondence to the correct address.

Affected Public: Individuals or households, businesses or other for-profits, not-for-profit institutions, and the Federal government.

Frequency: On occasion and 3 times at 4-year intervals following the grant of the patent.

Respondent's Obligation: Required to obtain or retain benefits.

OMB Desk Officer: David Rostker, (202) 395-3897.

Copies of the above information collection proposal can be obtained by calling or writing Susan K. Brown, Records Officer, Office of Data Architecture and Services, Data Administration Division, USPTO, Suite 310, 2231 Crystal Drive, Washington, DC 20231, by phone at (703) 308-7400, or by e-mail at susan.brown@uspto.gov.

Written comments and recommendations for the proposed information collection should be sent on or before January 3, 2003, to David Rostker, OMB Desk Officer, Room 10202, New Executive Office Building, 725 17th Street NW., Washington, DC 20503.

Dated: November 27, 2002.
Susan K. Brown,
Records Officer, USPTO, Office of Data Architecture and Services, Data Administration Division.

[FR Doc. 02-30747 Filed 12-3-02; 8:45 am]

BILLING CODE 3510-16-P